DEPARTMENT OF COMMERCE

International Trade Administration

Notice of Scope Rulings

AGENCY: Enforcement and Compliance, International Trade Administration, Department of Commerce.

DATES: Applicable January 16, 2020.

SUMMARY: The Department of Commerce (Commerce) hereby publishes a list of scope rulings and anti-circumvention determinations made during the period April 1, 2019 through June 30, 2019. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on December 17, 2019.² This current notice covers all scope rulings and anti-circumvention determinations made by Enforcement and Compliance between April 1, 2019 through June 30, 2019.

¹ See 19 CFR 351.225(o).

² See Notice of Scope Rulings, 84 FR 68877 (Dec. 17, 2019).

Scope Rulings Made April 1, 2019 Through June 30, 2019

Brazil

A-351-849; A-580-890; A-201-848 and A-455-805: Emulsion Styrene-Butadiene Rubber From Brazil, Korea, Mexico and Poland

Requester: Hankook Tire America Corp. SSBR-F3626A is not covered by the scope of the antidumping duty orders on Emulsion Styrene-Butadiene Rubber from Brazil, Korea, Mexico and Poland because SSBR-F3626A is not an emulsion-based rubber; it is a solution-based rubber; April 17, 2019.

Italy

A-475-834: Certain Carbon and Alloy Steel Cut-To-Length Plate From Italy

Requestor: Provident, LLC. Cold-rolled steel strip in coils used to produce “doctor blades” are not covered by the scope of the antidumping duty order on certain carbon and alloy steel cut-to-length plate from Italy because they are neither hot-rolled nor forged, and they are in coil form; June 27, 2019.

People's Republic of China

A-570-875: Non-Malleable Cast Iron Pipe Fittings From the People's Republic of China

Requestor: Westinghouse Air Brake Technologies Corporation (Webtec); Webtec's branch pipe tee is outside the scope of the order because its branch pipe tee does not meet the ITC definition of pipe fittings. It is a functioning manifold in an assembly that regulates air flow to operate a railway car emergency braking system; thus, its branch pipe tee does not have the same physical characteristics as the products subject to the scope of the order; April 1, 2019.

A-570-064; C-570-065; A-533-877; C-533-878: Stainless Steel Flanges From the People's Republic of China and India

Requestor: EN Corporation (ENC). ENC's stainless steel flanges that are forged in China and India but finished in the Philippines are within the scope of the order, based on the plain language of the scope; April 1, 2019.

A-570-910 and C-570-911: Circular Welded Carbon Quality Steel Pipe From the People's Republic of China

Requestor: NEXTracker, Inc. NT Torque Tubes are not covered by the scope of the antidumping and countervailing duty orders on circular welded carbon quality steel pipe from China because they are mechanical tubing which is excluded from the scope of these orders; April 5, 2019.

A-570-900: Diamond Sawblades and Parts Thereof From the People's Republic of China

Requestor: Stanley Black and Decker Inc. (Stanley); finished polycrystalline diamond (PCD) tipped sawblades (part numbers: DWA3193PCD, DWA412PCD, 4935473, 4935624, 4935625) imported from China are outside the scope of the antidumping duty order; April 18, 2019.

A-570-924: Polyethylene Terephthalate Film, Sheet, and Strip From the People's Republic of China

Requestor: ACCO Brands USA LLC. Overhead transparencies with a paper strip that have been made from PET film and that have a roughened surface layer created by corona treatment, are covered by the scope of the order because the additional manufacturing process required to affix a strip of paper to the overhead transparency does not result in an article of commerce entirely different from the ACCO overhead transparency Commerce previously found to be within the scope of the order, nor does it mean that the product is no longer a sheet of PET film; April 26, 2019.

A-570-910 and C-570-911: Circular Welded Carbon-Quality Steel Pipe From the People's Republic of China

Requestor: Kichler Lighting LLC. Fan and light downrods used to suspend lights and/or fans from a ceiling imported by Kichler are covered by the scope of the antidumping and countervailing duty orders on circular welded carbon-quality steel pipe from China; May 16, 2019.

A-570-601: Tapered Roller Bearings From the People's Republic of China

Requestor: Bourgault Industries; Based on our analysis of the scope language of the order, the sources described in 19 CFR 351.225(k)(1), and the comments received, we determine that Bourgault's coulter disc hubs are covered by the scope of the order; June 3, 3019.

A-570-922 and C-570-923: Raw Flexible Magnets From the People's Republic of China

Requestor: Magnetic Building Solutions' (MBS); Printed magnetic underlays imported by MBS, identified by product codes 867102000402 (SKU MBU100R100), 867102000426 (SKU MBU100S004PS), and 867102000457 (SKU MBU050S004PS) are excluded from the scope of the orders, because they meet the printed magnet exclusion. Specifically, MBS's underlays are permanently bonded to paper that consists of text and an image. The printed material constitutes a decorative motif and does not fall under any of the exceptions to the exclusion; June 19, 2019.

Republic of Korea

A-580-874; A-557-816; A-523-808; A-583-854; A-552-818; C-552-819: Certain Steel Nails From the Republic of Korea, Malaysia, the Sultanate of Oman, Taiwan, and the Socialist Republic of Vietnam and Countervailing Duty Order on Certain Steel Nails From the Socialist Republic of Vietnam (Orders)

Requestor: Magnum Tool Corporation; Steel to Wood roofing nails are covered by the scope of the Orders because the physical description and information provided by Magnum demonstrate the steel to wood roofing nails fall within the plain language of the scope of the Orders; April 1, 2019.

Changed Circumstances Reviews Made April 1, 2019 Through June 30, 2019

Republic of Korea

A-580-891: Carbon and Alloy Steel Wire Rod From the Republic of Korea

Requestor: Six members of the domestic industry, including the petitioners from the underlying investigation (Nucor Corporation, Optimus Steel LLC (formerly, Gerdau Ameristeel US Inc), Keystone Consolidates Industries, Inc., and Charter Steel). Grade 1078 and higher tire cord wire rod are not covered by the scope of the antidumping duty order on carbon and alloy steel wire rod from the Republic of Korea because producers accounting for substantially all of the production of the domestic like product have no further interest in the order with respect to grade 1078 and higher tire cord wire rod; April 3, 2019.

United Kingdom

A-412-826: Carbon and Alloy Steel Wire Rod From the United Kingdom

Requestor: Six members of the domestic industry, including the petitioners from the underlying investigation (Nucor Corporation, Optimus Steel LLC (formerly, Gerdau Ameristeel US Inc), Keystone Consolidates Industries, Inc., and Charter Steel). Grade 1078 and higher tire cord wire rod are not covered by the scope of the antidumping duty order on carbon and alloy steel wire rod from the United Kingdom because producers accounting for substantially all of the production of the domestic like product have no further interest in the order with respect to grade 1078 and higher tire cord wire rod; April 3, 2019.

Notification to Interested Parties

Interested parties are invited to comment on the completeness of this list of completed scope inquiries and anti-circumvention determinations made during the period April 1, 2019 through June 30, 2019. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: January 9, 2020.
James Maeder,
Deputy Assistant Secretary for Antidumping and Countervailing Duty Operations.

[FR Doc. 2020-00637 Filed 1-15-20; 8:45 am]

BILLING CODE 3510-DS-P